DEPARTMENT OF TRANSPORTATION

Federal Aviation Administration

Noise Exposure Map Notice

AGENCY: Federal Aviation Administration, DOT.

ACTION: Notice.

SUMMARY: The Federal Aviation Administration (FAA) announces its determination that the noise exposure maps submitted by Snohomish County for Paine Field/Snohomish County Airport under the provisions of 49 U.S.C. 47501 et. seq (Aviation Safety and Noise Abatement Act) and 14 CFR part 150 are in compliance with applicable requirements.

EFFECTIVE DATE: The effective date of the FAA's determination on the noise exposure maps is January 8, 2004.

FOR FURTHER INFORMATION CONTACT: Dennis Ossenkop, Federal Aviation Administration, Airports Division, 1601 Lind Ave. SW., Renton, WA, 98055-4056, telephone 425-227-2611. Comments on the proposed noise compatibility program should also be submitted to the above office.

SUPPLEMENTARY INFORMATION: This notice announces that the FAA finds that the noise exposure maps submitted for Paine Field/Snohomish County Airport are in compliance with applicable requirements of part 150, effective January 8, 2004. Under 49 U.S.C. section 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of Federal Aviation Regulations (FAR) part 150, promulgated pursuant to the Act, may submit a noise compatibility program for FAA approval which sets forth the measures the operator has taken or proposes to take to reduce existing non-compatible uses and prevent the introduction of additional non-compatible uses.

The FAA has completed its review of the noise exposure maps and accompanying documentation submitted by Snohomish County for Paine Field/Snohomish County Airport. The documentation that constitutes the “noise exposure maps” as defined in section 150.7 of part 150 includes the following from the September 2003, Paine Field FAR Part 150 Noise Exposure Maps Update:

• Figure 7 at page 19, Existing Noise Exposure Map, 2002/2003;

• Figure 8 at page 20 Future Noise Exposure Map, 2008;

• Figure 6 at page 12 Flight Tracks;

• Figure 5 at page 11 Noise Monitoring Sites;

• Table 1 at page 9 Summary of Aviation Forecasts 2002-2008'

• Tables 2 through 5 at pages 14-18 present flight track utilizations by runway and aircraft type;

• Figure 7 at page 18, Existing 2002 Noise Exposure Map, presents estimates of the number of persons residing with the DNL 55, 60, and 65 noise contours;

• Figure 8 at page 20, Future 2008 Noise Exposure Map, presents estimates of the number of persons residing with the DNL 55, 60, and 65 noise contours;

• Pages 20 through 24 and the Appendix present consultation details.

• The year of submission (2003) airport operations data is equivalent to the submitted existing condition Noise Exposure Map (2002) operations data and the five-year forecast Noise Exposure Map is reasonable.

• There are no properties on or eligible for inclusion in the National Register of Historic Places within the DNL 65 contour.

The FAA has determined that these noise exposure maps and accompanying documentation are in compliance with applicable requirements. This determination is effective on January 8, 2004.

FAA's determination on an airport operator's noise exposure maps is limited to a finding that the maps were developed in accordance with the procedures contained in appendix A of FAR Part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

Copies of the full noise exposure map documentation and of the FAA's evaluation of the maps are available for examination at the following locations:

Federal Aviation Administration, Airports Division, Suite 315, 1601 Lind Avenue, SW., Renton, Washington;

Federal Aviation Administration, Seattle Airports District Office, 1601 Lind Ave. SW., Suite 250, Renton, Washington;

Snohomish County Airport, Office of the Airport Director, 3220 100th Street, SW., Everett, WA.

Questions may be directed to the individual named above under the heading FOR FURTHER INFORMATION CONTACT.

Issued in Renton, Washington, January 8, 2004.
Lowell H. Johnson,
Manager, Airports Division, Northwest Mountain Region.

[FR Doc. 04-2202 Filed 2-2-04; 8:45 am]

BILLING CODE 4910-13-M